ENVIRONMENTAL PROTECTION AGENCY

[OAR-2005-0135 FRL-7937-8]

Agency Information Collection Activities: Proposed Collection; Comment Request; Recordkeeping and Reporting for the Performance-Based Qualification of Test Methods for Diesel Fuel, EPA ICR Number 2180.02, OMB Control Number 2060-0566

AGENCY: Environmental Protection Agency (EPA).

ACTION: Notice.

SUMMARY: In compliance with the Paperwork Reduction Act (44 U.S.C. 3501 et seq.), this document announces that EPA is planning to submit a proposed Information Collection Request (ICR) to the Office of Management and Budget (OMB). This is a request to renew an existing, approved “emergency” collection. This ICR is scheduled to expire on September 30, 2005. Before submitting the ICR to OMB for review and approval, EPA is soliciting comments on specific aspects of the proposed information collection as described below.

DATES: Comments must be submitted on or before September 12, 2005.

ADDRESSES: Submit your comments, referencing docket ID number OAR-2005-0135, to EPA online using EDOCKET (our preferred method), by e-mail to a-and-r-docket@epa.gov, or by mail to: EPA Docket Center, Environmental Protection Agency, Air and Radiation Docket (6102T), 1200 Pennsylvania Ave., NW., Washington, DC 20460.

FOR FURTHER INFORMATION CONTACT: Anne Pastorkovich, Attorney/Advisor, Environmental Protection Agency, Transportation & Regional Programs Division (6406J), 1200 Pennsylvania Ave., NW., Washington, DC 20460; telephone number: 202-343-9623; fax number: 202-343-2801; e-mail address: pastorkovich.anne-marie@epa.gov.

SUPPLEMENTARY INFORMATION: EPA has established a public docket for this ICR under Docket ID number OAR-2005-0135, which is available for public viewing at the Air and Radiation Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Air and Radiation Docket is (202) 566-1742. An electronic version of the public docket is available through EPA Dockets (EDOCKET) at http://www.epa.gov/edocket. Use EDOCKET to obtain a copy of the draft collection of information, submit or view public comments, access the index listing of the contents of the public docket, and to access those documents in the public docket that are available electronically. Once in the system, select “search,” then key in the docket ID number identified above.

Any comments related to this ICR should be submitted to EPA within 60 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Affected entities: Entities potentially (with SIC Code/2002 NAICS Code) affected by this action are as follows: Refiners (2911/324110), importers (5172/424720), and laboratories (8734/541380).

Title: Recordkeeping and Reporting for the Performance-Based Qualification of Test Methods for Diesel Fuel

Abstract: With this information collection request (ICR), the Office of Air and Radiation (OAR) is seeking permission to continue to collect applications from refiners, importers, and independent laboratories in order to permit them to use performance-based test methods for measuring sulfur in diesel fuel and detecting the presence of a marker in diesel sold as heating oil. An emergency ICR is in effect through September 2005.

In the past, we would set up a designated test method for measuring compliance with various fuel parameters. Typically, this test method was an American Society for Testing and Materials (ASTM) procedure that our laboratory used. Regulated parties would have to use the same method. In certain circumstances, alternative test methods were named. If a regulated party used an alternative test method, all results would have to be correlated to the designated test method. Simply put, the party would have to develop and apply a correlation equation to all its results to bring them in line with the designated test method.

The recent regulations for diesel fuel incorporated a performance-based test method approach. See “Air Pollution Control; New Motor Vehicles and Engines: Nonroad Diesel Engines and Fuel; Emissions Standards,” 69 FR 38957 (June 29, 2004). This approach sets up accuracy and precision criteria, but permits regulated parties to qualify their laboratories to use their own test methods. Industry supports this approach and welcomes it as a first step to a more comprehensive performance-based approach to test method issues.

In order to be qualified to use a test method, a refiner's or importer's laboratory or an independent laboratory will have to submit certain information to us. Unfortunately, these reporting provisions were not included in the information collection request for that final rule. The first day by which regulated parties may comply was December 27, 2004 and many were waiting to submit applications, so we submitted an emergency ICR request to OMB to permit us to accept applications until September 2005. This supporting statement has been prepared to support our “regular” ICR request, to take us beyond the emergency clearance's expiration date.

An agency may not conduct or sponsor, and a person is not required to respond to, a collection of information unless it displays a currently valid OMB control number. The OMB control numbers for EPA's regulations in 40 CFR are listed in 40 CFR part 9.

The EPA would like to solicit comments to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: We estimate the total annual respondent burden associated with this proposed collection to be 46,500 hours and $3,023,000 (of which $0 is capital and maintenance cost or “O&M.”) It is assumed that there will be 225 respondents, averaging one response each, and averaging 180 hours per response. We estimate an annual cost burden to the Agency of 659 hours and $44,500. For a more detailed explanation of our assumptions and estimates, please refer to the draft supporting statement in the docket.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: July 6, 2005.
Jeffrey R. Holmstead,
Assistant Administrator, Office of Air and Radiation.

[FR Doc. 05-13775 Filed 7-12-05; 8:45 am]

BILLING CODE 6560-50-P